FEDERAL COMMUNICATIONS COMMISSION

Notice of Public Information Collection(s) Being Reviewed by the Federal Communications Commission, Comments Requested

June 12, 2003.

SUMMARY: The Federal Communications Commission, as part of its continuing effort to reduce paperwork burden invites the general public and other Federal agencies to take this opportunity to comment on the following information collection(s), as required by the Paperwork Reduction Act (PRA) of 1995, Pub. L. 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before August 25, 2003. If you anticipate that you will be submitting comments, but find it difficult to do so within the period of time allowed by this notice, you should advise the contact listed below as soon as possible.

ADDRESSES: Direct all PRA comments to Judith B. Herman, Federal Communications Commission, Room 1-C804, 445 12th Street, SW., Washington, DC 20554 or via the Internet to Judith-B.Herman@fcc.gov.

FOR FURTHER INFORMATION CONTACT: For additional information or copies of the information collection(s), contact Judith B.Herman at 202-418-0214 or via the Internet at Judith-B. Herman@fcc.gov.

SUPPLEMENTARY INFORMATION: OMB Control No.: 3060-0775.

Title: Separate Affiliate Requirement for Independent Local Exchange Carrier (LEC) Provision of International, Interexchange Services (47 CFR 64.1901—64.1903).

Form No.: N/A.

Type of Review: Extension of a currently approved collection.

Respondents: Business or other for-profit.

Number of Respondents: 10.

Estimated Time Per Response: 6,056 hours.

Frequency of Response: Recordkeeping requirement.

Total Annual Burden: 60,563 hours.

Total Annual Cost: $1,003,000.

Needs and Uses: The Commission imposes the recordkeeping requirement to ensure that independent Local Exchange Carriers (LECs) providing international, interexchange services through a separate affiliate are in compliance with the Communications Act of 1934, as amended and with Commission policies and regulations.

OMB Control No.: 3060-0819.

Title: Lifeline Assistance (Lifeline) Connection Assistance (Link-Up) Reporting Worksheet and Instructions (47 CFR 54.400-54.417).

Form No.: FCC Form 497.

Type of Review: Revision of a currently approved collection.

Respondents: Business or other for-profit.

Number of Respondents: 1,500 respondents; 18,000 responses.

Estimated Time Per Response: 3 hours.

Frequency of Response: On occasion, quarterly, and monthly reporting requirements.

Total Annual Burden: 54,000 hours.

Total Annual Cost: N/A.

Needs and Uses: Eligible telecommunications carriers are permitted to receive universal service support reimbursement for offering certain services to qualifying low-income customers. The telecommunications carriers must file FCC Form 497 to solicit reimbursement. Collection of this data is necessary for the administrator to accurately provide settlements for the low-income program according to Commission rules.

OMB Control No.: 3060-XXXX.

Title: Application for Authority to Construct or Make Changes in an International Broadcast Station.

Form No.: FCC Form 420-IB.

Type of Review: New collection.

Respondents: Business or other for-profit.

Number of Respondents: 10.

Estimated Time Per Response: 2-10 hours.

Frequency of Response: On occasion, annual, semi-annual and one-time reporting requirements.

Total Annual Burden: 160 hours.

Total Annual Cost: $44,000.

Needs and Uses: The Commission is proposing creation of a new form, FCC Form 420-IB. This new International Bureau form would be completed by international broadcasters in lieu of the FCC Form 309. All questions previously contained in the FCC Form 309 that are applicable only to international broadcasters will be retained in the new form. The FCC Form 309 will continue to be used by the Media Bureau in connection with experimental broadcast stations. The Commission received approval for the use of the FCC Form 309 under OMB Control Number 3060-1035 which includes FCC Forms 310 and 311. The Commission requests that a new collection be established to put the new FCC Form 420-IB under a separate OMB control number to facilitate any changes to the form in the future. The form will be available on the Internet, by fax-on-demand, and in paper format. The implementation of electronic filing of the form in the International Bureau Filing System (IBFS) is contingent upon the availability of budget funds.

The information collected pursuant to the rules set forth in 47 CFR part 73, subpart F, is used by the Commission to assign frequencies for use by international broadcast stations, to grant authority to operate such stations and to determine if interference or adverse propagation conditions exist that may impact the operation of such stations. If the Commission did not collect this information, it would not be in a position to effectively coordinate spectrum for international broadcasters or to act for entities in times of frequency interference or adverse propagation conditions. The orderly nature of the provision of international broadcast service would be in jeopardy without the Commission's involvement.

OMB Control No.: 3060-XXXX.

Title: Application for an International Broadcast Station License.

Form No.: FCC Form 421-IB.

Type of Review: New collection.

Respondents: Business or other for-profit.

Number of Respondents: 10.

Estimated Time Per Response: 2-10 hours.

Frequency of Response: On occasion, annual, semi-annual and one-time reporting requirements.

Total Annual Burden: 120 hours.

Total Annual Cost: $36,000.

Needs and Uses: The Commission is proposing creation of a new form, FCC Form 421-IB. This new International Bureau form would be completed by international broadcasters in lieu of the FCC Form 310. All questions previously contained in the FCC Form 310 that are applicable only to international broadcasters will be retained in the new form. The FCC Form 310 will continue to be used by the Media Bureau in connection with experimental broadcast stations. The Commission received approval for the use of the FCC Form 310 under OMB Control Number 3060-1035 which includes FCC Forms 309 and 311. The Commission requests that a new collection be established to put the new FCC Form 421-IB under a separate OMB control number to facilitate any changes to the form in the future. The form will be available on the Internet, by fax-on-demand, and in paper format. The implementation of electronic filing of the form in the International Bureau Filing System (IBFS) is contingent upon the availability of budget funds.

The information collected pursuant to the rules set forth in 47 CFR part 73, subpart F, is used by the Commission to assign frequencies for use by international broadcast stations, to grant authority to operate such stations and to determine if interference or adverse propagation conditions exist that may impact the operation of such stations. If the Commission did not collect this information, it would not be in a position to effectively coordinate spectrum for international broadcasters or to act for entities in times of frequency interference or adverse propagation conditions. The orderly nature of the provision of international broadcast service would be in jeopardy without the Commission's involvement.

OMB Control No.: 3060-XXXX.

Title: Application for Renewal of an International Broadcast Station License.

Form No.: FCC Form 422-IB.

Type of Review: New collection.

Respondents: Business or other for-profit.

Number of Respondents: 10.

Estimated Time Per Response: 2-10 hours.

Frequency of Response: On occasion, annual, semi-annual and one-time reporting requirements.

Total Annual Burden: 60 hours.

Total Annual Cost: $32,000.

Needs and Uses: The Commission is proposing creation of a new form, FCC Form 422-IB. This new International Bureau form would be completed by international broadcasters in lieu of the FCC Form 311. All questions previously contained in the FCC Form 311 that are applicable only to international broadcasters will be retained in the new form. The FCC Form 311 will continue to be used by the Media Bureau in connection with experimental broadcast stations.

The Commission received approval for the use of the FCC Form 311 under OMB Control Number 3060-1035 which includes FCC Forms 309 and 310. The Commission requests that a new collection be established to put the new FCC Form 422-IB under a separate OMB control number to facilitate any changes to the form in the future. The form will be available on the Internet, by fax-on-demand, and in paper format. The implementation of electronic filing of the form in the International Bureau Filing System (IBFS) is contingent upon the availability of budget funds.

The information collected pursuant to the rules set forth in 47 CFR part 73, subpart F, is used by the Commission to assign frequencies for use by international broadcast stations, to grant authority to operate such stations and to determine if interference or adverse propagation conditions exist that may impact the operation of such stations. If the Commission did not collect this information, it would not be in a position to effectively coordinate spectrum for international broadcasters or to act for entities in times of frequency interference or adverse propagation conditions. The orderly nature of the provision of international broadcast service would be in jeopardy without the Commission's involvement.

OMB Control No.: 3060-XXXX.

Title: Application for Permit to Deliver Programs to Foreign Broadcast Stations.

Form No.: FCC Form 423-IB.

Type of Review: New collection.

Respondents: Business or other for-profit.

Number of Respondents: 30.

Estimated Time Per Response: 2-10 hours.

Frequency of Response: On occasion, annual, semi-annual and one-time reporting requirements.

Total Annual Burden: 80 hours.

Total Annual Cost: $26,000.

Needs and Uses: The Commission is proposing creation of a new form, FCC Form 423-IB. This new International Bureau form would be completed by international broadcasters in lieu of the FCC Form 308. All questions previously contained in the FCC Form 308 that are applicable only to international broadcasters will be retained in the new form. The Commission requests that a new collection be established to put the new FCC Form 423-IB under a separate OMB control number to facilitate any changes to the form in the future. The form will be available on the Internet, by fax-on-demand, and in paper format. The implementation of electronic filing of the form in the International Bureau Filing System (IBFS) is contingent upon the availability of budget funds.

The information collected pursuant to the rules set forth in 47 CFR part 73, subpart F, is used by the Commission to assign frequencies for use by international broadcast stations, to grant authority to operate such stations and to determine if interference or adverse propagation conditions exist that may impact the operation of such stations. If the Commission did not collect this information, it would not be in a position to effectively coordinate spectrum for international broadcasters or to act for entities in times of frequency interference or adverse propagation conditions. The orderly nature of the provision of international broadcast service would be in jeopardy without the Commission's involvement.

Federal Communications Commission.
Marlene H. Dortch,
Secretary.

[FR Doc. 03-16116 Filed 6-25-03; 8:45 am]

BILLING CODE 6712-01-P